DEPARTMENT OF ENERGY

Federal Energy Regulatory Commission

[Project No. 11854-002]

Ketchikan Public Utilities; Notice of Surrender of Preliminary Permit

March 7, 2003.

Take notice that Ketchikan Public Utilities, permittee for the proposed Connell Lake Project, has requested that its preliminary permit be terminated. The permit was issued on July 3, 2001, and would have expired on June 30, 2004. The project would have been located on Connell Lake and Ward Creek in Ketchikan Gateway Borough, Alaska.

The permittee filed the request on January 29, 2003, and the preliminary permit for Project No. 11854 shall remain in effect through the 30th day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-6003 Filed 3-12-03; 8:45 am]

BILLING CODE 6717-01-P